DEPARTMENT OF THE TREASURY

Internal Revenue Service

26 CFR Part 1

[REG-143601-06]

RIN 1545-BG30

Mortality Tables for Determining Present Value; Correction

AGENCY: Internal Revenue Service (IRS), Treasury.

ACTION: Correction to notice of proposed rulemaking.

SUMMARY: This document contains corrections to notice of proposed rulemaking that was published in the Federal Register on Tuesday, May 29, 2007 (72 FR 29456) providing mortality tables to be used in determining present value or making any computation for purposes of applying certain pension funding requirements.

FOR FURTHER INFORMATION CONTACT: Bruce Perlin, Lauson C. Green, or Linda S.F. Marshall at (202) 622-6090.

SUPPLEMENTARY INFORMATION:

Background

The notice of proposed rulemaking (REG-143601-06) that is the subject of these corrections is under sections 412, 430, and 431 of the Internal Revenue Code.

Need for Correction

As published, the notice of proposed rulemaking (REG-143601-06) contains errors that may prove to be misleading and are in need of clarification.

Correction of Publication

Accordingly, the notice of proposed rulemaking (REG-143601-06) that was the subject of FR Doc. 07-2631 is corrected as follows:

1. On page 29457, column 3, in the preamble, line 4 of footnote number 2, the language “XLVII (1995), p. 819. The RP-2000 Mortality Table” is corrected to read “XLVII (1995), p. 819. The RP-2000 Mortality Tables”.

2. On page 29460, column 3, in the preamble, second full paragraph of the column, line 7 from the bottom of the paragraph, the language “improvement factor is equal to (1—” is corrected to read “improvement factor is equal to (1-”.

§ 1.430(h)(3)-2 [Corrected]

3. On page 29471, § 1.430(h)(3)-2(d)(4)(i)(E), column 3, last line of the paragraph, the language “§ 1.430(h)-1(a)(3)).” is corrected to read “§ 1.430(h)(3)-1(a)(3)).”

LaNita Van Dyke,
Branch Chief, Publications and Regulations Branch, Legal Processing Division, Associate Chief Counsel (Procedure and Administration).

[FR Doc. E7-13494 Filed 7-19-07; 8:45 am]

BILLING CODE 4830-01-P